DEPARTMENT OF COMMERCE

National Oceanic and Atmospheric Administration

50 CFR Part 679

[I.D. 012902B]

Fisheries of the Exclusive Economic Zone Off Alaska; Recordkeeping and Reporting Requirements; Equipment and Operational Requirements

AGENCY: National Marine Fisheries Service (NMFS), National Oceanic and Atmospheric Administration (NOAA), Commerce.

ACTION: Announcement of effectiveness of data collection.

SUMMARY: NMFS is announcing the approval of information collection and recordkeeping requirements for the inspection of scales approved for weighing catch of Alaska groundfish at sea.

DATES: 50 CFR 679.28 (b)(2)(iii)(B), added February 4, 1998 (63 FR 5836) is effective Fenruary 7, 2002.

FOR FURTHER INFORMATION CONTACT: Patsy A. Bearden, 907-586-7008.

SUPPLEMENTARY INFORMATION: Section 679.28 Equipment and operational requirements, was added to 50 CFR part 679 effective February 4, 1998 (63 FR 5836), except that paragraph (b)(2)(iii) (B), containing information collection and recordkeeping requirements, that could not become effective until approved by the Office of Management and Budget (OMB). Paragraph 679.28 (b)(2)(iii)(B) was approved by OMB in control no. 0648-0330, effective February 7, 2002.

Dated: January 31, 2002.
Bruce C. Morehead,
Acting Director, Office of Sustainable Fisheries, National Marine Fisheries Service.

[FR Doc. 02-2877 Filed 2-6-02; 8:45 am]

BILLING CODE 3510-22-S